DEPARTMENT OF ENERGY

Federal Energy Regulatory Commission

[Docket No. CP16-479-000]

Columbia Gas Transmission, LLC; Notice of Request Under Blanket Authorization

Take notice that on July 11, 2016, Columbia Gas Transmission, LLC (Columbia), pursuant to its blanket certificate authorization granted in Docket No. CP83-76-000,¹ filed an application in accordance to sections 157.205 and 157.213(b) of the Commission's Regulations under the Natural Gas Act (NGA) as amended, requesting authority to modify certain natural gas storage facilities in the Pavonia Storage Field located in Ashland County, Ohio (Pavonia). The proposed construction is an effort to recovery the overall field deliverability at the Pavonia, all as more fully set forth in the application which is on file with the Commission and open to public inspection.

¹ 22 FERC ¶ 62,029 (1983).

Currently, the Pavonia consists of 298 active wells and 2 observation wells and is operated with a total storage capacity of 45.4 Bcf, including 20.8 Bcf of base gas and 24.6 Bcf of working gas. Over time, the sub grade soil conditions around the reservoir degrade and cause restriction of gas flow through the existing vertical wells. Columbia proposes to construct a 540-foot horizontal well (Pavonia 12595) within a geological-favorable area of the Pavonia peaking group, 220 feet of 6-inch storage pipeline (SLW-12595), and appurtenances. The main purpose of the proposed facilities is to maintain field performance late in the withdrawal season when reservoir pressure is lowest. It is estimated that the new horizontal well will provide 25 MMcf/day at the wellhead. Columbia's request seeks no change in the certificated physical parameters, including total inventory, reservoir pressure, and capacity. The construction of the proposed facilities will cost approximately $2,750,000.

Any questions concerning this application may be directed to Matthew J. Agen, Senior Counsel, Columbia Gas Transmission, LLC, 5151 San Felipe, Suite 2400, Houston, Texas 77056, or by phone at (713) 386-3619; email magen@cpg.com.

This filing is available for review at the Commission or may be viewed on the Commission's Web site at http://www.ferc.gov, using the “eLibrary” link. Enter the docket number excluding the last three digits in the docket number filed to access the document. For assistance, please contact FERC Online Support at FERCOnlineSupport@ferc.gov or call toll-free at (866) 208-3676, or, for TTY, contact (202) 502-8659. Comments, protests and interventions may be filed electronically via the Internet in lieu of paper. See, 18 CFR 385.2001(a)(1)(iii) and the instructions on the Commission's Web site under the “e-Filing” link. The Commission strongly encourages interveners to file electronically.

Pursuant to section 157.9 of the Commission's rules, 18 CFR 157.9, within 90 days of this Notice, the Commission staff will either: complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

Any person or the Commission's staff may, within 60 days after issuance of the instant notice by the Commission, file pursuant to Rule 214 of the Commission's Procedural Rules (18 CFR 385.214) a motion to intervene or notice of intervention and pursuant to section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Dated: July 15, 2016.
Kimberly D. Bose,
Secretary.

[FR Doc. 2016-17219 Filed 7-20-16; 8:45 am]

BILLING CODE 6717-01-P